DEPARTMENT OF ENERGY

[Docket No. EA-101-B]

Application To Export Electric Energy; Avista Corporation

AGENCY: Office of Fossil Energy, DOE.

ACTION: Notice of application.

SUMMARY: Avista Corporation (Avista) has applied to amend its authorization to export electric energy to Canada pursuant to section 202(e) of the Federal Power Act.

DATES: Comments, protests or requests to intervene must be submitted on or before May 7, 2003.

ADDRESSES: Comments, protests or requests to intervene should be addressed as follows: Office of Coal & Power Import/Export (FE-27), Office of Fossil Energy, U.S. Department of Energy, 1000 Independence Avenue, SW., Washington, DC 20585-0350 (FAX 202-287-5736).

FOR FURTHER INFORMATION CONTACT: Ellen Russell (Program Office) 202-586-9624 or Michael Skinker (Program Attorney) 202-586-2793.

SUPPLEMENTARY INFORMATION: Exports of electricity from the United States to a foreign country are regulated and require authorization under section 202(e) of the Federal Power Act (FPA) (16 U.S.C. 824a(e)).

On October 17, 1994, the Office of Fossil Energy (FE) of the Department of Energy (DOE) issued Order No. EA-101 authorizing Avista (formerly Washington Water Power Company) to transmit electric energy from the United States to Canada using the international electric transmission facilities owned and operated by Bonneville Power Administration (BPA). That Order authorized Avista to export firm capacity and associated energy only for the months of November, December, January, and February, and at a maximum rate of transmission of 100 megawatts (MW). On October 23, 1995, in Order No. EA-101-A, FE amended the previous electricity export authorization by authorizing exports during each month of the calendar year and at a maximum rate of transmission of 400 MW.

On November 8, 2000, Avista filed an application with FE to amend Order No. EA-101-A by increasing the maximum rate of transmission to 1,000 MW. Notice of receipt of that application appeared in the Federal Register on November 20, 2000. No comments were received during the 30-day comment period. On February 12, 2003, Avista submitted an amended application. In the amended application, Avista changed its request for a 1,000-MW export limit and, instead, requests that the authorized export limit be changed from 400 MW to an amount not to exceed the reliability and physical limits of the international transmission facilities presently owned by BPA. In its amended application, Avista clarified that the electric energy to be exported will be sold on an “as available” basis as system conditions dictate and as surpluses are available.

Procedural Matters: Any person desiring to become a party to this proceeding or to be heard by filing comments or protests to this application should file a petition to intervene, comment or protest at the address provided above in accordance with §§ 385.211 or 385.214 of the Federal Energy Regulatory Commission's Rules of Practice and Procedures (18 CFR 385.211, 385.214). Fifteen copies of each petition and protest should be filed with DOE on or before the date listed above.

Comments on the Avista application to export electric energy to Canada should be clearly marked with Docket EA-101-B. Additional copies are to be filed directly with Richard L. Storro, Manager, Wholesale Power, Avista Corporation, P.O. Box 3727, Spokane, Washington 99220-3727 AND R. Blair Strong, Paine, Hamblen, Coffin, Brooke and Miller, 717 W. Sprague, Suite 1200, Spokane, WA 99201-3505.

DOE notes that the circumstances described in this application are virtually identical to those for which export authority had previously been granted in FE Order Nos. EA-101 and EA-101-A. Consequently, DOE believes that it has adequately satisfied its responsibilities under the National Environmental Policy Act of 1969 through the documentation of a categorical exclusion in the previous proceedings.

Copies of this application will be made available, upon request, for public inspection and copying at the address provided above or by accessing the FE Home Page at http://www.fe.de.gov. Upon reaching the FE Home page, select “Electricity Regulation” and then “Pending Proceedings” from the options menus.

Issued in Washington, DC, on March 31, 2003.
Anthony J. Como,
Deputy Director, Electric Power Regulation, Office of Coal & Power Import/Export, Office of Coal & Power Systems, Office of Fossil Energy.

[FR Doc. 03-8378 Filed 4-4-03; 8:45 am]

BILLING CODE 6450-01-P